DEPARTMENT OF TRANSPORTATION

Federal Railroad Administration

[Docket Number FRA-2000-7257, Notice Number 8]

Northeast Corridor Safety Advisory Committee; Notice of Meeting

AGENCY: Federal Railroad Administration (FRA), Department of Transportation.

ACTION: Announcement of Northeast Corridor Safety Advisory Committee (NECSC) meeting.

SUMMARY: FRA announces the sixth meeting of the NECSC, a Federal Advisory Committee mandated by section 212 of the Passenger Rail Investment and Improvement Act of 2008 (PRIIA). The NECSC is composed of stakeholders operating on the Northeast Corridor (NEC), and its purpose is to provide annual recommendations to the U.S. Secretary of Transportation. NECSC meeting topics will include the following: Maintenance-of-way fatigue, presentations on the NEC's future and NEC construction projects, Tier III passenger equipment rulemaking, the Confidential Close Call Reporting System (C³RS), Amtrak 160 mph waiver requests, split rail derails on track leading to the NEC, and a general discussion of safety issues.

DATES: The NECSC meeting is scheduled to begin at 9:30 a.m. on Wednesday, May 25, 2016, and will adjourn by 4:30 p.m.

ADDRESSES: The NECSC meeting will be held at the National Housing Center located at 1201 15th Street NW., Washington, DC 20005. The meeting is open to the public on a first-come, first-served basis and is accessible to individuals with disabilities. Sign and oral interpretation can be made available if requested 10 calendar days before the meeting.

FOR FURTHER INFORMATION CONTACT: Mr. Larry Woolverton, RSAC Administrative Officer/Coordinator, FRA, 1200 New Jersey Avenue SE., Mailstop 25, Washington, DC 20590, (202) 493-6212; or Mr. Robert C. Lauby, Associate Administrator for Railroad Safety and Chief Safety Officer, FRA, 1200 New Jersey Avenue SE., Mailstop 25, Washington, DC 20590, (202) 493-6474.

SUPPLEMENTARY INFORMATION: The NECSC is mandated by a statutory provision in section 212 of the PRIIA (codified at 49 U.S.C. 24905(f)). The NECSC is chartered by the U.S. Secretary of Transportation, and is an official Federal Advisory Committee established in accordance with the provisions of the Federal Advisory Committee Act, as amended, 5 U.S.C. title 5—Appendix.

Issued in Washington, DC on May 3, 2016.
Patrick T. Warren,
Deputy Associate Administrator for Safety Compliance and Program Implementation.

[FR Doc. 2016-10774 Filed 5-6-16; 8:45 am]

BILLING CODE 4910-06-P